DEPARTMENT OF COMMERCE

National Oceanic and Atmospheric Administration

[RTID 0648-XC141]

Marine Mammals; File No. 26591

AGENCY: National Marine Fisheries Service (NMFS), National Oceanic and Atmospheric Administration (NOAA), Commerce.

ACTION: Notice; receipt of application.

SUMMARY: Notice is hereby given that the BBC Broadcasting House's Natural History Unit, Whiteladies Road, Bristol, United Kingdom BS8 2LR (Responsible Party: Sheryl Bawden), has applied in due form for a permit to conduct commercial and educational photography on bottlenose dolphins (Tursiops truncatus).

DATES: Written, telefaxed, or email comments must be received on or before August 4, 2022.

ADDRESSES: These documents are available upon written request via email to NMFS.Pr1Comments@noaa.gov.

Written comments on this application should be submitted via email to NMFS.Pr1Comments@noaa.gov. Please include File No. 26591 in the subject line of the email comment.

Those individuals requesting a public hearing should submit a written request via email to NMFS.Pr1Comments@noaa.gov. The request should set forth the specific reasons why a hearing on this application would be appropriate.

FOR FURTHER INFORMATION CONTACT: Erin Markin or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film bottlenose dolphins (Charleston Estuarine System Stock) in waters around Charleston County, South Carolina, including Kiawah, Seabrook, and Hilton Head Islands, for a wildlife documentary series that reveals the strand feeding behavior as an example of the success that can be achieved when animals work together. Up to 1,680 bottlenose dolphins may be filmed from land, vessel, or unmanned aircraft systems, annually. Underwater video and vocalizations may be recorded using an underwater pole camera. The permit would expire on December 1, 2023.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 28, 2022.
Julia M. Harrison,
Chief, Permits and Conservation Division, Office of Protected Resources, National Marine Fisheries Service.

[FR Doc. 2022-14205 Filed 7-1-22; 8:45 am]

BILLING CODE 3510-22-P